DEPARTMENT OF COMMERCE

National Oceanic and Atmospheric Administration

RIN 0648-XK46

North Pacific Fishery Management Council; Public Meeting

AGENCY: National Marine Fisheries Service (NMFS), National Oceanic and Atmospheric Administration (NOAA), Commerce.

ACTION: Notice of a public committee meeting.

SUMMARY: The North Pacific Fishery Management Council's (Council) Crab Socioeconomic Data Collection Committee will meet in Anchorage, AK.

DATES: The meeting will be held on September 30, 2008, at 6 p.m.

ADDRESSES: The meeting will be held in the Howard Rock A Ballroom, at the Sheraton,401 East 6th Avenue, Anchorage, AK.

Council address: North Pacific Fishery Management Council, 605 W. 4th Ave., Suite 306, Anchorage, AK 99501-2252.

FOR FURTHER INFORMATION CONTACT: Mark Fina, North Pacific Fishery Management Council; telephone: (907) 271-2809.

SUPPLEMENTARY INFORMATION: The committee will discuss the collection of social and economic fisheries data, and potential analytical uses of those data. These data include revenue, cost, crew, labor, and community information, which may be collected from vessels and processing plants participating in the fisheries, as well as data from other sources.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305 (c) of the Magnuson-Stevens Act, provided the public has been notified of the Council's intent to take final action to address the emergency.

Special Accommodations

This meeting is physically accessible to people with disabilities. Requests for sign language interpretation or other auxiliary aids should be directed to Gail Bendixen, (907) 271-2809, at least 5 working days prior to the meeting date.

Dated: September 10, 2008.
Tracey L. Thompson,
Acting Director, Office of Sustainable Fisheries, National Marine Fisheries Service.

[FR Doc. E8-21401 Filed 9-12-08; 8:45 am]

BILLING CODE 3510-22-S